DEPARTMENT OF COMMERCE

National Oceanic and Atmospheric Administration

RIN 0648-XE401

Pacific Fishery Management Council; Notice of Intent To Prepare an Environmental Impact Statement

AGENCY: National Marine Fisheries Service (NMFS), National Oceanic and Atmospheric Administration (NOAA), Commerce.

ACTION: Notice of intent to prepare an environmental impact statement (EIS); request for comments.

SUMMARY: NMFS and the Pacific Fishery Management Council (Council) announce their intent to prepare an environmental impact statement (EIS) in accordance with the National Environmental Policy Act (NEPA) of 1969 to analyze the short- and long-term impacts on the human (biological, physical, social, and economic) environment of Amendment 28 to the Pacific Coast Groundfish Fishery Management Plan (FMP). This notice also requests written comment.

DATES: Public scoping will be conducted through this notice. Written comments must be received by 5 p.m. Pacific Standard Time on March 2, 2016 (see SUPPLEMENTARY INFORMATION).

ADDRESSES: You may submit comments on issues and alternatives by any of the following methods:

• Email: GroundfishAmendment28.wcr@noaa.gov.

• Fax: 360-753-9463, Attention Dr. John Stadler.

• Mail: Submit written comments to Dr. John Stadler, Essential Fish Habitat Coordinator, NMFS West Coast Region, 510 Desmond Drive SE., Lacey, WA 98503.

Instructions: Comments sent by any other method, to any other address or individual, or received after the end of the comment period, may not be considered by NMFS.

FOR FURTHER INFORMATION CONTACT: Dr. John Stadler, Essential Fish Habitat Coordinator, NMFS West Coast Region at 360-534-9328 or john.stadler@noaa.gov.

SUPPLEMENTARY INFORMATION:

Background for Agency Actions and Proposed Action

There are more than 90 species managed under the Pacific Coast Groundfish Fishery Management Plan (Groundfish FMP). These groundfish stocks support an array of commercial, recreational, and tribal fishing interests in state and Federal waters off the coasts of Washington, Oregon, and California. In addition, groundfish are also harvested incidentally in non-groundfish fisheries, most notably, the trawl fisheries for pink shrimp and California halibut.

Amendment 28 to the FMP is intended to accomplish three goals: (1) Revise the essential fish habitat (EFH) components of the FMP; (2) make adjustments to the trawl Rockfish Conservation Areas (RCAs); and (3) use the discretionary authorities in the Magnuson-Stevens Fishery Conservation and Management Act (MSA) to protect benthic habitats, including deep sea corals, from the adverse effects of fishing. These actions are described in detail below.

Essential Fish Habitat

The MSA mandates that each regional fishery management council designate EFH for the species that they manage. EFH is defined as “those waters and substrate necessary to fish for spawning, breeding, feeding or growth to maturity.” The regulations implementing the EFH provisions of the MSA (50 CFR 600.815) require or, in some cases, recommend that fishery management plans include the following components:

1. A description and identification of EFH, including habitat information for each managed species and life stage;

2. A description of the MSA fishing activities that may adversely affect EFH and management measures to minimize those effects to the extent practicable;

3. A description of the non-MSA fishing activities that may adversely affect EFH, for example, those managed by state agencies;

4. A description of the non-fishing activities that may adversely affect;

5. and analysis, if feasible, of how the cumulative effects of fishing and non-fishing activities affect the function of EFH on an ecosystem or watershed scale;

6. A description of conservation and enhancement measures that encourage the conservation of EFH, including recommended options to avoid, minimize, or compensate for the adverse effects of fishing and non-fishing activities;

7. Identification of the major prey species of each species;

8. Identification of habitat areas of particular concern (HAPCs); and

9. Identification of research and information needs that the Council and NMFS view as necessary to improve upon the description and identification of EFH, the identification of threats to EFH from fishing and other activities, and the development of conservation and enhancement measures for EFH;

10. A procedure for reviewing and revising, if warranted, the EFH components of the FMP.

The PFMC designated EFH for Pacific Coast groundfish in 2005, and established the EFH components described above in Amendment 19 to the Groundfish FMP. In particular, the Council identified a number of EFH Conservation Areas (EFHCAs) where certain types of bottom-contact gear are prohibited to minimize the adverse effects of the groundfish fishery on EFH. Maps of the EFHCAs are available at: http://www.westcoast.fisheries.noaa.gov/publications/gis_maps/maps/groundfish/map-gfish-efh-close.pdf.

Subsequently, and in accordance with the regulations, NMFS and the Council completed a review of the information available in 2013, and the Council issued a request for proposals on changes to these 10 components. The Council received eight proposals, two of which were later withdrawn by the sponsors. Although these proposals covered a number of the EFH components, the Council determined that revisions were warranted for these five components: The essential fish habitat descriptions for each species and life stage; the description of the adverse effects of fishing on groundfish EFH and management measures to minimize those effects (i.e., the EFHCAs); the description of non-fishing activities that may adversely affect EFH, conservation and enhancement measures that encourage the conservation of EFH; the research and information needs; and the procedure to review and revise the groundfish EFH components. In addition, minor clarifications and corrections to the FMP are warranted.

Trawl RCA Adjustment

Trawl RCAs are areas that are closed to bottom-trawl gear to protect overfished species, primarily several species of rockfishes, and were first implemented in 2002. The trawl RCAs extend along the entire West Coast and is bounded by lines approximating particular depth contours. In recent years, the Council also considered modifications to control the bycatch of several non-overfished species (e.g., spiny dogfish, longnose skate, and rougheye rockfish). In 2011, the trawl fishery was rationalized by Amendment 20 to the groundfish FMP and participants are now individually accountable for their bycatch of individual fishing quota species. Due to the success of this program at reducing bycatch, the Council is now considering making adjustments to the RCA boundaries or eliminating them entirely.

Although the trawl RCAs were implemented to control bycatch of overfished species, the habitats within them have been largely protected from bottom-trawl gear since their inception in 2002, even though trawling for pink shrimp has occurred in some areas. Because of the habitat protections afforded by the RCAs, the habitats that have not been trawled for pink shrimp have recovered, at least partially, from the effects of past bottom trawling. Therefore the Council will evaluate adjustments to the RCA at the same time they are considering revisions to the EFHCAs.

Prohibition of Bottom-Contact Gear in Water Deeper Than 3500 Meters

When the Council adopted Amendment 19 to the groundfish FMP, it attempted to close waters deeper than 3500 meters to bottom trawling to minimize the effects of the fishery on groundfish EFH. However, because EFH did not extend beyond 3500 meters, NMFS disapproved that section of the amendment. The MSA contains several discretionary authorities that the Council may use to close these waters, regardless of their designation as EFH [MSA sections 303(b)(2)(A), 303(b)(2)(B), and 303(b)(12)]. The Council is considering using those authorities to prohibit all bottom-contact gear in waters deeper than 3500 meters unless an exempted fishing permit is issued. At the present time, fishing with such gear at these depths is neither technically nor economically feasible; however, the Council and NMFS view this as a precautionary measure that may help to protect these pristine and highly sensitive habitats.

Alternatives

NEPA requires that agencies evaluate, in addition to the preferred alternative, a range of reasonable alternatives that addresses the purpose of and need for the agency action. The Council adopted a preliminary range of alternatives for analysis and public review at its meeting in September 2015 and is scheduled to review that range at its April 9-14, 2016, meeting.

Alternatives to address EFH Components: Each of the EFH components has its own set of alternatives. The Council identified 15 action alternatives for analysis to modify the existing EFHCAs that prohibit bottom trawling. They include seven proposals received from various groups of stakeholders and Federal agencies. The proposals can be viewed at: www.pcouncil.org/2013/08/26497/gf-efh-received-proposals/. The seven proposals currently under consideration were submitted by:

1. Monterey Bay National Marine Sanctuary—a proposal that addresses EFHCAs within the Sanctuary.

2. Gulf of the Farallones National Marine Sanctuary (now the Greater Farallones National Marine Sanctuary)—a proposal that addresses EFHCAs within the Sanctuary.

3. Fishermen's Marketing Association—a proposal to make a small change to the EFHCAs adjacent to the Eel River Canyon.

4. Oceana, National Resources Defense Council, and Ocean Conservancy—a coast-wide proposal for modifying the EFHCAs.

5. Marine Conservation Institute—a coast-wide proposal for modifying the EFHCAs.

6. Greenpeace—a coast-wide proposal for modifying the EFHCAs.

7. Northern and Central Collaborative Working Groups—a coast-wide proposal for modifying the EFHCAs.

In addition to these seven proposals, the Council preliminarily identified other action alternatives for analysis. They are:

8. Reopening those areas identified in the seven proposals described above. This alternative would not designate new areas for closure to bottom trawling. This is a coast-wide alternative.

9. Designating new EFHCAs within the current trawl RCAs, based on priority habitats. This is a coast-wide alternative.

10. Each of the six coast-wide alternatives (4 through 9) include changes to the EFHCAs within the usual and accustomed fishing areas (U&As) of the four Coastal Treaty Tribes in Washington (Ho, Makah, Quileute, and Quinault). These tribes are co-managers of the fishery resources within their U&As, and NMFS has a treaty-trust responsibility to address their concerns regarding our management decisions. Therefore, for each of these alternatives listed above (numbers 4-9), another alternative will be analyzed that excludes changes in the U&As.

The remaining EFH components each have a single action alternative. They are:

• Use the best scientific information available to revise the descriptions of the habitat requirements for each species and life stage in Appendix B to the FMP (http://www.pcouncil.org/wp-content/uploads/GF_FMP_App_B2.pdf and http://www.pcouncil.org/wp-content/uploads/GF_FMP_App_B3.pdf).

• Use the best scientific information available to revise the description of the adverse effects of fishing on EFH in Appendix C, part 2, to the FMP (http://www.pcouncil.org/wp-content/uploads/GF_FMP_App_C2.pdf).

• Use the best scientific information available to revise the description of the non-fishing activities that may adversely affect EFH, and potential conservation measures to avoid, minimize, or mitigate those adverse effects in Appendix D to the FMP (http://www.pcouncil.org/wp-content/uploads/GF_FMP_App_D.pdf).

• Update the research and information needs for understanding the EFH requirements of the species managed under this FMP.

• Update the process to review and revise the groundfish EFH components of the FMP.

• Make minor clarifications and corrections to the EFH language in the FMP.

Alternatives to adjust the Trawl RCAs: The Council preliminarily identified three action alternatives for making adjustments to the trawl RCAs. They are:

1. Complete removal of the existing RCAs. This alternative would remove the RCAs along the entire West Coast, restoring access to all of the areas that were previously closed to minimize the bycatch of overfished species.

2. Retaining a subset of the existing RCAs to protect overfished species. This alternative would restore access to some, but not all, of the areas that were closed to minimize bycatch of overfished species. The specific areas that would remain closed have not yet been identified.

3. Retaining a larger subset of the existing RCAs to protect overfished species and act as a catch-control mechanism for non-overfished species of groundfishes. The specific areas that would remain closed have not yet been identified.

Alternative to prohibit bottom-contact gear in water deeper than 3500 meters: The Council preliminarily identified a “no action” alternative that would not use the discretionary authorities and one action alternative that would prohibit bottom-contact gear in waters deeper than 3500 m, the seaward limit of EFH, out to the full extent of the U.S. exclusive economic zone. Waters that meet this description occur off the coast of California only, south of the Gorda Escarpment, and are shown on the map of groundfish EFH at: http://www.westcoast.fisheries.noaa.gov/publications/gis_maps/maps/groundfish/map-gfish-efh.pdf. An exempted fishing permit would be required before any bottom-contact fishery could start up in these waters.

Preliminary Identification of Environmental Issues

A principal objective of the scoping and public input process is to identify potentially significant impacts to the human environment that should be analyzed in depth in the EIS. If, during the preparation of this EIS, NMFS determines that a finding of no significant impact can be supported, it may prepare an Environmental Assessment (EA) and issue a retraction of this notice. Alternatively, NMFS may still continue with the preparation of an EIS. Information and analysis prepared for this action also may be used when scoping future groundfish actions to help decide whether to prepare an EA or EIS.

Request for Comments

NMFS provides this notice to: (1) Advise the public and other agencies of its plans to analyze effects related to the action, and (2) obtain suggestions and information that may be useful to the scope of issues and the full range of alternatives to include in the EIS.

NMFS invites comment from all interested parties to ensure that the full range of issues related to Amendment 28 is identified. NMFS is specifically inviting comments on the proposed alternatives described above. In addition, NMFS invites comments on the types of habitats that should be prioritized for protection from the adverse effects of fishing gear. Comments should be as specific as possible.

Written comments concerning the proposed action and the environmental review should be directed to NMFS as described above (see ADDRESSES). All comments and materials received, including names and addresses, will become part of the administrative record and may be released to the public.

Public Scoping Process

Public scoping will be conducted through this notice. Further participation by the public will occur throughout the Council's decision-making process. All decisions during the Council process benefit from written and oral public comments delivered prior to or during the Council meeting. These public comments are considered integral to scoping for developing this EIS. Council meetings that offer opportunities for public involvement include the April 9-14, 2016, meeting in Vancouver, Washington (Hilton Vancouver Washington, 301 W. 6th Street, Vancouver, WA 98660). Future opportunities for public involvement have yet to be determined but will be posted in the Council Briefing Book (on the Council's Web site (http://www.pcouncil.org/council-operations/briefing-books/) prior to the meeting. For further information on these meetings, visit the Council's Web site, http://www.pcouncil.org/council-operations/council-meetings/future-meetings/.

Special Accommodations

The Council meetings are physically accessible to people with disabilities.

Requests for sign language interpretation or other auxiliary aids should be directed to Kris Kleinschmidt at Kris.Kleinschmidt@noaa.gov or (503) 820-2280 at least 5 days prior to the meeting date.

Authority: 16 U.S.C. 1801 et seq.

Dated: January 27, 2016.
Emily H. Menashes,
Deputy Director, Office of Sustainable Fisheries, National Marine Fisheries Service.

[FR Doc. 2016-01759 Filed 1-29-16; 8:45 am]

BILLING CODE 3510-22-P